DEPARTMENT OF ENERGY

Federal Energy Regulatory Commission

18 CFR Part 11

[Docket No. RM11-6-000]

Annual Update to Fee Schedule for the Use of Government Lands by Hydropower Licensees

AGENCY: Federal Energy Regulatory Commission.

ACTION: Final rule; annual update to fee schedule.

SUMMARY: In accordance with the Commission's regulations, the Commission, by its designee, the Executive Director, issues this notice of the annual update to the fee schedule in Appendix A to Part 11, which lists per-acre rental fees by county (or other geographic area) for use of government lands by hydropower licensees.

DATES: This rule is effective January 20, 2015 and updates Appendix A to Part 11 with the fee schedule of per-acre rental fees by county (or other geographic area) from October 1, 2014, through September 30, 2015 (Fiscal Year 2015).

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This notice updates the fee schedule in Appendix A to Part 11 for fiscal year 2015 (October 1, 2014, through September 30, 2015).

¹ Annual Charges for the Use of Government Lands, Order No. 774, 78 FR 5256 (January 25, 2013), FERC Stats. & Regs. ¶ 31,341 (2013).

² 18 CFR part 11 (2014).

Effective Date

This Final Rule is effective January 20, 2015. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Executive Director.
Anton C. Porter,
Executive Director, Office of the Executive Director.

In consideration of the foregoing, the Commission amends Appendix A to Part 11, Chapter I, Title 18, Code of Federal Regulations, as follows:

PART 11—[AMENDED]

1. The authority citation for part 11 continues to read as follows:

Authority: 16 U.S.C. 792-828c; 42 U.S.C. 7101-7352.

2. Appendix A to Part 11 is revised to read as follows:

Appendix A to Part 11—Fee Schedule for FY 2015

State | County | Fee/Acre/Yr
Alabama | Autauga | $55.10
| Baldwin | 92.54
| Barbour | 49.84
| Bibb | 63.51
| Blount | 90.59
| Bullock | 57.19
| Butler | 60.34
| Calhoun | 89.88
| Chambers | 51.19
| Cherokee | 61.58
| Chilton | 78.56
| Choctaw | 48.65
| Clarke | 46.44
| Clay | 66.34
| Cleburne | 87.05
| Coffee | 61.44
| Colbert | 61.07
| Conecuh | 51.90
| Coosa | 59.06
| Covington | 63.42
| Crenshaw | 60.31
| Cullman | 105.25
| Dale | 59.71
| Dallas | 46.67
| DeKalb | 97.98
| Elmore | 73.75
| Escambia | 59.63
| Etowah | 85.16
| Fayette | 48.11
| Franklin | 59.77
| Geneva | 58.47
| Greene | 43.75
| Hale | 51.76
| Henry | 51.39
| Houston | 60.14
| Jackson | 59.66
| Jefferson | 97.21
| Lamar | 40.33
| Lauderdale | 65.91
| Lawrence | 73.67
| Lee | 85.24
| Limestone | 75.25
| Lowndes | 46.16
| Macon | 53.26
| Madison | 75.76
| Marengo | 47.43
| Marion | 56.97
| Marshall | 104.91
| Mobile | 90.48
| Monroe | 50.71
| Montgomery | 55.13
| Morgan | 80.97
| Perry | 45.25
| Pickens | 53.09
| Pike | 61.35
| Randolph | 68.57
| Russell | 61.86
| St. Clair | 99.79
| Shelby | 104.99
| Sumter | 40.81
| Talladega | 65.80
| Tallapoosa | 70.07
| Tuscaloosa | 69.90
| Walker | 71.12
| Washington | 59.83
| Wilcox | 39.11
| Winston | 73.24
Alaska | Aleutian Islands Area ** | 1.58
| Anchorage Area ** | 88.69
| Fairbanks Area ** | 19.49
| Juneau Area ** | 1,367.35
| Kenai Peninsula ** | 33.28
| All Areas | 9.81
Arizona | Apache | 2.65
| Cochise | 26.09
| Coconino | 2.70
| Gila | 5.20
| Graham | 7.54
| Greenlee | 32.06
| La Paz | 14.85
| Maricopa | 116.28
| Mohave | 7.72
| Navajo | 3.78
| Pima | 6.10
| Pinal | 49.78
| Santa Cruz | 31.35
| Yavapai | 24.34
| Yuma | 114.41
Arkansas | Arkansas | 52.13
| Ashley | 57.28
| Baxter | 68.46
| Benton | 122.35
| Boone | 67.77
| Bradley | 72.01
| Calhoun | 54.36
| Carroll | 63.45
| Chicot | 44.09
| Clark | 52.11
| Clay | 55.71
| Cleburne | 70.64
| Cleveland | 88.44
| Columbia | 61.50
| Conway | 63.35
| Craighead | 61.02
| Crawford | 81.10
| Crittenden | 53.66
| Cross | 49.91
| Dallas | 42.42
| Desha | 47.64
| Drew | 49.01
| Faulkner | 75.98
| Franklin | 60.52
| Fulton | 44.42
| Garland | 91.44
| Grant | 71.69
| Greene | 62.32
| Hempstead | 52.43
| Hot Spring | 66.97
| Howard | 65.39
| Independence | 53.88
| Izard | 45.44
| Jackson | 50.49
| Jefferson | 52.78
| Johnson | 63.72
| Lafayette | 47.99
| Lawrence | 53.93
| Lee | 50.14
| Lincoln | 54.28
| Little River | 44.44
| Logan | 64.02
| Lonoke | 53.78
| Madison | 74.46
| Marion | 49.21
| Miller | 46.69
| Mississippi | 56.00
| Monroe | 50.09
| Montgomery | 71.71
| Nevada | 51.69
| Newton | 58.68
| Ouachita | 57.38
| Perry | 61.40
| Phillips | 45.14
| Pike | 57.45
| Poinsett | 55.95
| Polk | 73.16
| Pope | 72.28
| Prairie | 46.32
| Pulaski | 61.37
| Randolph | 48.64
| St. Francis | 50.64
| Saline | 77.78
| Scott | 62.22
| Searcy | 44.72
| Sebastian | 76.00
| Sevier | 60.47
| Sharp | 46.44
| Stone | 50.69
| Union | 85.34
| Van Buren | 61.27
| Washington | 103.15
| White | 62.02
| Woodruff | 50.31
| Yell | 62.20
California | Alameda | 30.53
| Alpine | 53.94
| Amador | 37.51
| Butte | 59.15
| Calaveras | 28.85
| Colusa | 31.33
| Contra Costa | 52.00
| Del Norte | 53.54
| El Dorado | 80.00
| Fresno | 62.41
| Glenn | 37.97
| Humboldt | 19.35
| Imperial | 41.65
| Inyo | 7.49
| Kern | 36.42
| Kings | 43.03
| Lake | 72.29
| Lassen | 10.89
| Los Angeles | 110.43
| Madera | 53.40
| Marin | 39.80
| Mariposa | 12.98
| Mendocino | 41.82
| Merced | 56.76
| Modoc | 11.49
| Mono | 24.31
| Monterey | 36.57
| Napa | 213.53
| Nevada | 57.72
| Orange | 95.22
| Placer | 80.21
| Plumas | 14.42
| Riverside | 124.12
| Sacramento | 52.91
| San Benito | 21.94
| San Bernardino | 24.93
| San Diego | 151.53
| San Francisco | 3,599.04
| San Joaquin | 80.05
| San Luis Obispo | 35.79
| San Mateo | 73.53
| Santa Barbara | 55.75
| Santa Clara | 45.03
| Santa Cruz | 176.53
| Shasta | 24.86
| Sierra | 20.54
| Siskiyou | 19.69
| Solano | 38.84
| Sonoma | 125.08
| Stanislaus | 74.60
| Sutter | 51.64
| Tehama | 25.07
| Trinity | 9.79
| Tulare | 65.08
| Tuolumne | 26.75
| Ventura | 179.36
| Yolo | 42.99
| Yuba | 46.69
Colorado | Adams | 22.85
| Alamosa | 30.44
| Arapahoe | 29.46
| Archuleta | 31.92
| Baca | 12.51
| Bent | 9.96
| Boulder | 61.31
| Broomfield * | 31.85
| Chaffee | 40.63
| Cheyenne | 12.42
| Clear Creek | 24.14
| Conejos | 24.03
| Costilla | 15.66
| Crowley | 9.71
| Custer | 31.54
| Delta | 55.64
| Denver * | 20.10
| Dolores | 20.30
| Douglas | 61.83
| Eagle | 21.97
| Elbert | 19.51
| El Paso | 25.68
| Fremont | 29.91
| Garfield | 34.81
| Gilpin | 24.60
| Grand | 29.08
| Gunnison | 34.40
| Hinsdale | 52.89
| Huerfano | 12.84
| Jackson | 18.76
| Jefferson | 65.45
| Kiowa | 10.44
| Kit Carson | 14.95
| Lake | 32.81
| La Plata | 26.62
| Larimer | 47.94
| Las Animas | 8.82
| Lincoln | 11.07
| Logan | 16.72
| Mesa | 64.10
| Mineral | 33.89
| Moffat | 13.88
| Montezuma | 17.70
| Montrose | 45.84
| Morgan | 21.01
| Otero | 11.51
| Ouray | 27.73
| Park | 16.39
| Phillips | 21.47
| Pitkin | 48.82
| Prowers | 13.26
| Pueblo | 12.88
| Rio Blanco | 18.45
| Rio Grande | 42.63
| Routt | 26.24
| Saguache | 25.10
| San Juan * | 20.10
| San Miguel | 27.64
| Sedgwick | 18.45
| Summit | 29.70
| Teller | 24.49
| Washington | 13.99
| Weld | 29.79
| Yuma | 20.09
Connecticut | Fairfield | 389.92
| Hartford | 393.84
| Litchfield | 339.46
| Middlesex | 463.36
| New Haven | 357.80
| New London | 320.73
| Tolland | 323.84
| Windham | 246.75
Delaware | Kent | 277.33
| New Castle | 332.25
| Sussex | 285.93
Florida | Alachua | 138.95
| Baker | 122.06
| Bay | 146.48
| Bradford | 131.73
| Brevard | 75.20
| Broward | 507.65
| Calhoun | 83.64
| Charlotte | 61.92
| Citrus | 146.42
| Clay | 100.80
| Collier | 114.13
| Columbia | 134.94
| DeSoto | 106.17
| Dixie | 70.65
| Duval | 169.29
| Escambia | 90.64
| Flagler | 76.02
| Franklin | 49.02
| Gadsden | 105.58
| Gilchrist | 128.44
| Glades | 100.34
| Gulf | 90.79
| Hamilton | 92.45
| Hardee | 116.50
| Hendry | 64.88
| Hernando | 187.02
| Highlands | 78.54
| Hillsborough | 194.68
| Holmes | 81.16
| Indian River | 100.21
| Jackson | 70.98
| Jefferson | 86.13
| Lafayette | 72.49
| Lake | 201.48
| Lee | 206.68
| Leon | 73.04
| Levy | 99.52
| Liberty | 35.52
| Madison | 87.08
| Manatee | 118.57
| Marion | 181.84
| Martin | 115.85
| Dade | 528.22
| Monroe | 504.19
| Nassau | 121.22
| Okaloosa | 103.36
| Okeechobee | 87.94
| Orange | 125.60
| Osceola | 48.87
| Palm Beach | 78.60
| Pasco | 146.96
| Pinellas | 471.21
| Polk | 136.49
| Putnam | 101.66
| St. Johns | 168.03
| St. Lucie | 117.50
| Santa Rosa | 110.47
| Sarasota | 145.94
| Seminole | 162.36
| Sumter | 110.49
| Suwannee | 118.07
| Taylor | 89.70
| Union | 87.96
| Volusia | 188.78
| Wakulla | 60.41
| Walton | 86.37
| Washington | 85.27
Georgia | Appling | 72.52
| Atkinson | 76.25
| Bacon | 72.79
| Baker | 68.74
| Baldwin | 65.23
| Banks | 172.47
| Barrow | 170.72
| Bartow | 124.43
| Ben Hill | 60.57
| Berrien | 75.64
| Bibb | 103.00
| Bleckley | 70.63
| Brantley | 73.73
| Brooks | 78.55
| Bryan | 52.35
| Bulloch | 71.89
| Burke | 66.87
| Butts | 97.19
| Calhoun | 54.49
| Camden | 48.46
| Candler | 74.14
| Carroll | 145.62
| Catoosa | 153.18
| Charlton | 58.08
| Chatham | 125.25
| Chattahoochee | 66.57
| Chattooga | 89.92
| Cherokee | 247.16
| Clarke | 134.02
| Clay | 68.49
| Clayton | 160.14
| Clinch | 74.05
| Cobb | 156.03
| Coffee | 68.44
| Colquitt | 79.84
| Columbia | 107.68
| Cook | 79.48
| Coweta | 101.24
| Crawford | 80.85
| Crisp | 61.56
| Dade | 87.07
| Dawson | 189.30
| Decatur | 72.88
| DeKalb | 279.77
| Dodge | 55.01
| Dooly | 57.28
| Dougherty | 70.25
| Douglas | 198.98
| Early | 65.72
| Echols | 88.80
| Effingham | 87.65
| Elbert | 94.77
| Emanuel | 59.56
| Evans | 66.38
| Fannin | 148.99
| Fayette | 183.33
| Floyd | 101.27
| Forsyth | 228.69
| Franklin | 176.72
| Fulton | 152.06
| Gilmer | 206.93
| Glascock | 58.95
| Glynn | 97.54
| Gordon | 147.37
| Grady | 81.92
| Greene | 108.75
| Gwinnett | 263.49
| Habersham | 191.55
| Hall | 203.53
| Hancock | 68.98
| Haralson | 112.81
| Harris | 91.35
| Hart | 156.88
| Heard | 113.60
| Henry | 164.17
| Houston | 101.19
| Irwin | 61.64
| Jackson | 169.41
| Jasper | 105.11
| Jeff Davis | 61.06
| Jefferson | 58.87
| Jenkins | 52.49
| Johnson | 53.91
| Jones | 97.54
| Lamar | 114.15
| Lanier | 65.01
| Laurens | 58.08
| Lee | 68.57
| Liberty | 55.69
| Lincoln | 80.50
| Long | 60.24
| Lowndes | 101.46
| Lumpkin | 179.49
| McDuffie | 78.08
| McIntosh | 64.22
| Macon | 77.40
| Madison | 138.24
| Marion | 68.79
| Meriwether | 99.68
| Miller | 73.10
| Mitchell | 71.67
| Monroe | 88.91
| Montgomery | 67.89
| Morgan | 141.39
| Murray | 110.21
| Muscogee | 89.10
| Newton | 117.58
| Oconee | 149.92
| Oglethorpe | 100.34
| Paulding | 181.14
| Peach | 102.45
| Pickens | 180.97
| Pierce | 78.25
| Pike | 114.34
| Polk | 116.23
| Pulaski | 72.66
| Putnam | 113.71
| Quitman | 70.05
| Rabun | 148.55
| Randolph | 58.82
| Richmond | 111.90
| Rockdale | 150.58
| Schley | 82.63
| Screven | 64.57
| Seminole | 62.38
| Spalding | 147.95
| Stephens | 140.02
| Stewart | 67.34
| Sumter | 64.16
| Talbot | 57.88
| Taliaferro | 71.78
| Tattnall | 76.36
| Taylor | 58.82
| Telfair | 61.94
| Terrell | 65.15
| Thomas | 74.69
| Tift | 70.77
| Toombs | 58.68
| Towns | 173.19
| Treutlen | 60.84
| Troup | 104.81
| Turner | 67.94
| Twiggs | 70.14
| Union | 162.83
| Upson | 86.96
| Walker | 117.88
| Walton | 159.95
| Ware | 83.73
| Warren | 68.55
| Washington | 60.76
| Wayne | 79.37
| Webster | 62.11
| Wheeler | 58.65
| White | 197.33
| Whitfield | 128.27
| Wilcox | 61.26
| Wilkes | 71.97
| Wilkinson | 61.12
| Worth | 66.41
Hawaii | Hawaii | 149.02
| Honolulu | 379.39
| Kauai | 133.18
| Maui | 175.88
Idaho | Ada | 53.21
| Adams | 17.06
| Bannock | 19.05
| Bear Lake | 16.52
| Benewah | 20.58
| Bingham | 22.02
| Blaine | 20.42
| Boise | 18.98
| Bonner | 53.81
| Bonneville | 25.67
| Boundary | 48.32
| Butte | 18.97
| Camas | 15.52
| Canyon | 77.58
| Caribou | 13.66
| Cassia | 21.09
| Clark | 11.11
| Clearwater | 26.24
| Custer | 29.89
| Elmore | 17.46
| Franklin | 26.31
| Fremont | 23.86
| Gem | 28.61
| Gooding | 50.44
| Idaho | 17.86
| Jefferson | 26.32
| Jerome | 43.58
| Kootenai | 51.41
| Latah | 26.32
| Lemhi | 20.10
| Lewis | 19.12
| Lincoln | 27.20
| Madison | 34.63
| Minidoka | 30.69
| Nez Perce | 18.59
| Oneida | 14.86
| Owyhee | 17.34
| Payette | 35.58
| Power | 13.22
| Shoshone | 73.99
| Teton | 46.32
| Twin Falls | 31.42
| Valley | 41.74
| Washington | 12.39
Illinois | Adams | 101.16
| Alexander | 89.22
| Bond | 98.24
| Boone | 142.55
| Brown | 87.98
| Bureau | 116.73
| Calhoun | 89.65
| Carroll | 106.03
| Cass | 102.66
| Champaign | 125.50
| Christian | 120.54
| Clark | 93.28
| Clay | 84.72
| Clinton | 109.84
| Coles | 111.74
| Cook | 300.62
| Crawford | 94.55
| Cumberland | 101.62
| DeKalb | 133.64
| De Witt | 120.28
| Douglas | 121.32
| DuPage | 216.59
| Edgar | 110.27
| Edwards | 80.39
| Effingham | 104.13
| Fayette | 84.98
| Ford | 114.66
| Franklin | 73.12
| Fulton | 101.62
| Gallatin | 85.73
| Greene | 104.65
| Grundy | 119.79
| Hamilton | 86.56
| Hancock | 95.88
| Hardin | 66.11
| Henderson | 99.48
| Henry | 113.94
| Iroquois | 116.30
| Jackson | 80.71
| Jasper | 95.45
| Jefferson | 81.75
| Jersey | 105.57
| Jo Daviess | 115.46
| Johnson | 67.61
| Kane | 140.18
| Kankakee | 124.90
| Kendall | 124.84
| Knox | 115.95
| Lake | 182.47
| La Salle | 121.18
| Lawrence | 94.55
| Lee | 124.41
| Livingston | 119.45
| Logan | 121.23
| McDonough | 112.00
| McHenry | 145.35
| McLean | 120.60
| Macon | 128.68
| Macoupin | 110.59
| Madison | 119.36
| Marion | 90.02
| Marshall | 116.65
| Mason | 95.19
| Massac | 73.03
| Menard | 110.56
| Mercer | 106.35
| Monroe | 102.57
| Montgomery | 109.98
| Morgan | 113.47
| Moultrie | 121.95
| Ogle | 130.81
| Peoria | 112.06
| Perry | 80.88
| Piatt | 125.99
| Pike | 101.42
| Pope | 65.56
| Pulaski | 85.29
| Putnam | 113.56
| Randolph | 92.76
| Richland | 88.67
| Rock Island | 118.15
| St. Clair | 109.58
| Saline | 83.36
| Sangamon | 112.23
| Schuyler | 94.03
| Scott | 103.96
| Shelby | 102.40
| Stark | 118.90
| Stephenson | 111.54
| Tazewell | 116.42
| Union | 76.44
| Vermilion | 113.94
| Wabash | 93.48
| Warren | 117.97
| Washington | 97.32
| Wayne | 77.79
| White | 81.92
| Whiteside | 110.19
| Will | 162.65
| Williamson | 81.75
| Winnebago | 127.23
| Woodford | 122.24
Indiana | Adams | 125.02
| Allen | 115.95
| Bartholomew | 109.43
| Benton | 97.50
| Blackford | 79.01
| Boone | 112.60
| Brown | 123.90
| Carroll | 118.77
| Cass | 102.98
| Clark | 103.12
| Clay | 90.91
| Clinton | 119.17
| Crawford | 83.67
| Daviess | 104.82
| Dearborn | 110.73
| Decatur | 102.66
| DeKalb | 104.48
| Delaware | 101.37
| Dubois | 93.15
| Elkhart | 159.86
| Fayette | 94.25
| Floyd | 133.46
| Fountain | 99.41
| Franklin | 105.92
| Fulton | 96.61
| Gibson | 90.76
| Grant | 98.46
| Greene | 83.76
| Hamilton | 130.96
| Hancock | 118.13
| Harrison | 93.64
| Hendricks | 118.54
| Henry | 99.43
| Howard | 119.52
| Huntington | 99.78
| Jackson | 86.58
| Jasper | 96.35
| Jay | 114.53
| Jefferson | 98.11
| Jennings | 91.89
| Johnson | 128.31
| Knox | 99.61
| Kosciusko | 107.47
| LaGrange | 146.75
| Lake | 114.13
| LaPorte | 105.31
| Lawrence | 80.76
| Madison | 107.65
| Marion | 169.22
| Marshall | 102.46
| Martin | 93.10
| Miami | 96.58
| Monroe | 104.91
| Montgomery | 108.19
| Morgan | 112.57
| Newton | 103.99
| Noble | 106.49
| Ohio | 102.89
| Orange | 83.76
| Owen | 92.52
| Parke | 89.24
| Perry | 76.82
| Pike | 80.30
| Porter | 119.89
| Posey | 87.79
| Pulaski | 89.41
| Putnam | 103.64
| Randolph | 90.79
| Ripley | 100.24
| Rush | 106.00
| St. Joseph | 105.17
| Scott | 88.98
| Shelby | 109.32
| Spencer | 87.88
| Starke | 87.45
| Steuben | 112.89
| Sullivan | 86.35
| Switzerland | 101.45
| Tippecanoe | 113.64
| Tipton | 118.71
| Union | 108.22
| Vanderburgh | 98.86
| Vermillion | 91.60
| Vigo | 88.54
| Wabash | 103.09
| Warren | 101.77
| Warrick | 87.97
| Washington | 81.37
| Wayne | 94.31
| Wells | 99.81
| White | 110.50
| Whitley | 110.07
Iowa | Adair | 78.33
| Adams | 73.79
| Allamakee | 80.50
| Appanoose | 62.40
| Audubon | 100.27
| Benton | 104.31
| Black Hawk | 112.70
| Boone | 108.59
| Bremer | 114.40
| Buchanan | 108.97
| Buena Vista | 110.67
| Butler | 101.48
| Calhoun | 110.15
| Carroll | 106.39
| Cass | 88.73
| Cedar | 106.31
| Cerro Gordo | 103.71
| Cherokee | 109.72
| Chickasaw | 104.72
| Clarke | 66.85
| Clay | 104.34
| Clayton | 89.83
| Clinton | 98.45
| Crawford | 90.03
| Dallas | 96.62
| Davis | 67.84
| Decatur | 59.54
| Delaware | 109.86
| Des Moines | 95.01
| Dickinson | 102.26
| Dubuque | 98.13
| Emmet | 103.88
| Fayette | 97.52
| Floyd | 107.75
| Franklin | 105.27
| Fremont | 88.47
| Greene | 110.09
| Grundy | 113.45
| Guthrie | 86.57
| Hamilton | 114.05
| Hancock | 103.33
| Hardin | 109.40
| Harrison | 85.73
| Henry | 88.30
| Howard | 88.18
| Humboldt | 108.42
| Ida | 92.93
| Iowa | 89.05
| Jackson | 82.06
| Jasper | 99.80
| Jefferson | 82.26
| Johnson | 108.42
| Jones | 101.05
| Keokuk | 85.96
| Kossuth | 104.14
| Lee | 78.33
| Linn | 108.74
| Louisa | 92.23
| Lucas | 62.84
| Lyon | 121.45
| Madison | 85.41
| Mahaska | 88.68
| Marion | 84.25
| Marshall | 107.64
| Mills | 96.34
| Mitchell | 103.53
| Monona | 91.68
| Monroe | 65.32
| Montgomery | 84.37
| Muscatine | 102.55
| O'Brien | 121.54
| Osceola | 112.12
| Page | 78.44
| Palo Alto | 104.57
| Plymouth | 104.86
| Pocahontas | 106.45
| Polk | 111.16
| Pottawattamie | 104.92
| Poweshiek | 95.99
| Ringgold | 65.70
| Sac | 111.48
| Scott | 121.57
| Shelby | 92.87
| Sioux | 131.05
| Story | 102.87
| Tama | 100.15
| Taylor | 71.88
| Union | 72.78
| Van Buren | 71.62
| Wapello | 89.20
| Warren | 90.47
| Washington | 106.60
| Wayne | 64.72
| Webster | 104.49
| Winnebago | 96.86
| Winneshiek | 93.94
| Woodbury | 86.16
| Worth | 102.35
| Wright | 113.01
Kansas | Allen | 28.74
| Anderson | 29.14
| Atchison | 38.94
| Barber | 18.50
| Barton | 24.06
| Bourbon | 31.96
| Brown | 48.61
| Butler | 31.10
| Chase | 27.62
| Chautauqua | 25.14
| Cherokee | 35.41
| Cheyenne | 17.56
| Clark | 18.02
| Clay | 33.27
| Cloud | 28.94
| Coffey | 27.85
| Comanche | 15.17
| Cowley | 27.28
| Crawford | 30.76
| Decatur | 18.73
| Dickinson | 30.25
| Doniphan | 48.84
| Douglas | 54.85
| Edwards | 25.00
| Elk | 28.00
| Ellis | 22.07
| Ellsworth | 21.52
| Finney | 22.32
| Ford | 20.30
| Franklin | 47.12
| Geary | 35.78
| Gove | 17.16
| Graham | 17.62
| Grant | 22.81
| Gray | 24.29
| Greeley | 20.16
| Greenwood | 27.31
| Hamilton | 19.13
| Harper | 21.04
| Harvey | 38.91
| Haskell | 30.28
| Hodgeman | 16.93
| Jackson | 33.67
| Jefferson | 45.81
| Jewell | 23.58
| Johnson | 57.13
| Kearny | 19.64
| Kingman | 23.92
| Kiowa | 17.96
| Labette | 29.25
| Lane | 17.05
| Leavenworth | 55.62
| Lincoln | 22.41
| Linn | 38.26
| Logan | 17.39
| Lyon | 27.85
| McPherson | 32.10
| Marion | 28.48
| Marshall | 35.92
| Meade | 20.18
| Miami | 58.56
| Mitchell | 26.28
| Montgomery | 32.56
| Morris | 25.03
| Morton | 16.42
| Nemaha | 40.17
| Neosho | 30.25
| Ness | 15.39
| Norton | 19.56
| Osage | 34.32
| Osborne | 21.64
| Ottawa | 23.58
| Pawnee | 24.40
| Phillips | 19.90
| Pottawatomie | 34.01
| Pratt | 25.52
| Rawlins | 18.19
| Reno | 28.88
| Republic | 31.62
| Rice | 25.54
| Riley | 35.49
| Rooks | 18.73
| Rush | 19.96
| Russell | 18.79
| Saline | 30.65
| Scott | 21.21
| Sedgwick | 41.17
| Seward | 20.73
| Shawnee | 45.56
| Sheridan | 22.09
| Sherman | 21.55
| Smith | 22.32
| Stafford | 24.72
| Stanton | 21.81
| Stevens | 22.52
| Sumner | 26.74
| Thomas | 23.29
| Trego | 17.62
| Wabaunsee | 27.80
| Wallace | 17.76
| Washington | 29.48
| Wichita | 19.07
| Wilson | 27.40
| Woodson | 26.48
| Wyandotte | 69.30
Kentucky | Adair | 70.96
| Allen | 80.15
| Anderson | 78.00
| Ballard | 73.95
| Barren | 79.92
| Bath | 58.01
| Bell | 55.62
| Boone | 141.46
| Bourbon | 135.06
| Boyd | 74.72
| Boyle | 92.90
| Bracken | 58.96
| Breathitt | 43.53
| Breckinridge | 60.77
| Bullitt | 108.72
| Butler | 55.57
| Caldwell | 56.86
| Calloway | 81.01
| Campbell | 112.14
| Carlisle | 68.20
| Carroll | 68.06
| Carter | 51.06
| Casey | 58.21
| Christian | 74.09
| Clark | 96.17
| Clay | 53.82
| Clinton | 65.96
| Crittenden | 54.28
| Cumberland | 51.98
| Daviess | 86.84
| Edmonson | 62.29
| Elliott | 44.77
| Estill | 57.41
| Fayette | 189.36
| Fleming | 56.63
| Floyd | 66.71
| Franklin | 93.27
| Fulton | 64.93
| Gallatin | 85.61
| Garrard | 75.30
| Grant | 80.95
| Graves | 80.55
| Grayson | 61.74
| Green | 66.62
| Greenup | 56.86
| Hancock | 61.77
| Hardin | 82.56
| Harlan | 48.10
| Harrison | 77.05
| Hart | 69.21
| Henderson | 80.06
| Henry | 93.85
| Hickman | 75.30
| Hopkins | 62.80
| Jackson | 52.49
| Jefferson | 209.69
| Jessamine | 134.88
| Johnson | 61.28
| Kenton | 127.85
| Knott | 57.26
| Knox | 62.98
| Larue | 78.68
| Laurel | 81.96
| Lawrence | 42.16
| Lee | 37.27
| Leslie | 22.89
| Letcher | 48.19
| Lewis | 43.88
| Lincoln | 68.29
| Livingston | 56.40
| Logan | 76.42
| Lyon | 49.39
| McCracken | 84.03
| McCreary | 68.60
| McLean | 86.50
| Madison | 84.74
| Magoffin | 48.27
| Marion | 70.27
| Marshall | 73.26
| Martin | 23.92
| Mason | 72.60
| Meade | 84.57
| Menifee | 54.02
| Mercer | 98.24
| Metcalfe | 67.00
| Monroe | 66.74
| Montgomery | 72.48
| Morgan | 46.58
| Muhlenberg | 56.77
| Nelson | 93.44
| Nicholas | 56.74
| Ohio | 57.49
| Oldham | 175.49
| Owen | 65.45
| Owsley | 42.82
| Pendleton | 72.60
| Perry | 34.98
| Pike | 26.88
| Powell | 55.31
| Pulaski | 75.38
| Robertson | 51.20
| Rockcastle | 59.27
| Rowan | 56.83
| Russell | 89.02
| Scott | 110.56
| Shelby | 127.27
| Simpson | 84.86
| Spencer | 94.62
| Taylor | 71.13
| Todd | 82.07
| Trigg | 74.18
| Trimble | 73.17
| Union | 74.18
| Warren | 90.06
| Washington | 70.79
| Wayne | 58.70
| Webster | 66.80
| Whitley | 70.61
| Wolfe | 50.71
| Woodford | 200.10
Louisiana | Acadia | 50.33
| Allen | 51.77
| Ascension | 94.58
| Assumption | 69.93
| Avoyelles | 48.42
| Beauregard | 60.88
| Bienville | 58.48
| Bossier | 75.74
| Caddo | 58.26
| Calcasieu | 48.56
| Caldwell | 51.48
| Cameron | 48.61
| Catahoula | 44.60
| Claiborne | 71.05
| Concordia | 47.49
| De Soto | 54.53
| East Baton Rouge | 109.96
| East Carroll | 43.46
| East Feliciana | 70.72
| Evangeline | 48.23
| Franklin | 47.33
| Grant | 50.49
| Iberia | 68.11
| Iberville | 78.00
| Jackson | 85.64
| Jefferson | 56.44
| Jefferson Davis | 48.20
| Lafayette | 93.11
| Lafourche | 66.33
| La Salle | 63.20
| Lincoln | 86.89
| Livingston | 118.11
| Madison | 43.81
| Morehouse | 44.28
| Natchitoches | 45.07
| Orleans | 56.11
| Ouachita | 61.02
| Plaquemines | 34.38
| Pointe Coupee | 53.77
| Rapides | 68.35
| Red River | 45.69
| Richland | 43.70
| Sabine | 80.84
| St. Bernard | 32.06
| St. Charles | 56.11
| St. Helena | 82.99
| St. James | 70.83
| St. John the Baptist | 78.55
| St. Landry | 53.60
| St. Martin | 65.65
| St. Mary | 61.04
| St. Tammany | 147.20
| Tangipahoa | 106.19
| Tensas | 43.98
| Terrebonne | 32.42
| Union | 80.29
| Vermilion | 54.53
| Vernon | 84.96
| Washington | 89.84
| Webster | 69.91
| West Baton Rouge | 81.68
| West Carroll | 50.11
| West Feliciana | 65.71
| Winn | 58.95
Maine | Androscoggin | 82.10
| Aroostook | 31.70
| Cumberland | 136.50
| Franklin | 72.16
| Hancock | 77.87
| Kennebec | 74.69
| Knox | 106.14
| Lincoln | 105.56
| Oxford | 75.84
| Penobscot | 62.72
| Piscataquis | 54.95
| Sagadahoc | 102.02
| Somerset | 51.68
| Waldo | 62.20
| Washington | 31.04
| York | 129.17
Maryland | Allegany | 124.36
| Anne Arundel | 373.02
| Baltimore | 260.16
| Calvert | 241.63
| Caroline | 155.66
| Carroll | 222.64
| Cecil | 217.25
| Charles | 191.76
| Dorchester | 138.31
| Frederick | 235.72
| Garrett | 163.60
| Harford | 274.62
| Howard | 373.24
| Kent | 172.47
| Montgomery | 271.20
| Prince George's | 267.25
| Queen Anne's | 163.46
| St. Mary's | 205.63
| Somerset | 179.14
| Talbot | 174.28
| Washington | 214.34
| Wicomico | 163.65
| Worcester | 124.50
Massachusetts | Barnstable | 902.66
| Berkshire | 222.59
| Bristol | 405.32
| Dukes | 383.35
| Essex | 470.64
| Franklin | 197.16
| Hampden | 269.74
| Hampshire | 228.13
| Middlesex | 476.20
| Nantucket | 257.88
| Norfolk | 526.88
| Plymouth | 371.76
| Suffolk | 676.61
| Worcester | 299.57
Michigan | Alcona | 68.10
| Alger | 60.23
| Allegan | 117.15
| Alpena | 72.30
| Antrim | 108.11
| Arenac | 67.09
| Baraga | 57.34
| Barry | 97.80
| Bay | 78.94
| Benzie | 128.36
| Berrien | 129.31
| Branch | 83.99
| Calhoun | 84.38
| Cass | 98.16
| Charlevoix | 106.12
| Cheboygan | 75.81
| Chippewa | 53.93
| Clare | 80.37
| Clinton | 101.30
| Crawford | 113.60
| Delta | 64.01
| Dickinson | 69.17
| Eaton | 85.33
| Emmet | 100.29
| Genesee | 104.58
| Gladwin | 82.95
| Gogebic | 95.61
| Grand Traverse | 156.26
| Gratiot | 82.89
| Hillsdale | 84.41
| Houghton | 55.61
| Huron | 87.38
| Ingham | 107.04
| Ionia | 96.26
| Iosco | 75.50
| Iron | 76.37
| Isabella | 83.45
| Jackson | 97.18
| Kalamazoo | 117.18
| Kalkaska | 96.26
| Kent | 135.56
| Keweenaw | 58.66
| Lake | 81.58
| Lapeer | 115.33
| Leelanau | 198.06
| Lenawee | 89.59
| Livingston | 141.30
| Luce | 82.53
| Mackinac | 59.25
| Macomb | 144.38
| Manistee | 86.28
| Marquette | 67.65
| Mason | 89.42
| Mecosta | 81.41
| Menominee | 62.44
| Midland | 84.04
| Missaukee | 81.80
| Monroe | 107.18
| Montcalm | 80.26
| Montmorency | 66.67
| Muskegon | 110.99
| Newaygo | 95.67
| Oakland | 235.93
| Oceana | 105.95
| Ogemaw | 79.00
| Ontonagon | 44.54
| Osceola | 74.74
| Oscoda | 71.72
| Otsego | 74.46
| Ottawa | 162.96
| Presque Isle | 63.20
| Roscommon | 116.79
| Saginaw | 79.42
| St. Clair | 107.41
| St. Joseph | 94.74
| Sanilac | 81.69
| Schoolcraft | 39.33
| Shiawassee | 82.50
| Tuscola | 84.85
| Van Buren | 119.93
| Washtenaw | 140.15
| Wayne | 216.86
| Wexford | 89.31
Minnesota | Aitkin | 48.25
| Anoka | 167.28
| Becker | 54.04
| Beltrami | 44.69
| Benton | 87.62
| Big Stone | 61.91
| Blue Earth | 102.15
| Brown | 85.04
| Carlton | 59.99
| Carver | 113.36
| Cass | 61.11
| Chippewa | 77.01
| Chisago | 123.94
| Clay | 53.17
| Clearwater | 42.76
| Cook | 123.57
| Cottonwood | 85.32
| Crow Wing | 74.60
| Dakota | 111.92
| Dodge | 106.14
| Douglas | 69.31
| Faribault | 91.36
| Fillmore | 82.88
| Freeborn | 89.35
| Goodhue | 102.69
| Grant | 64.24
| Hennepin | 157.82
| Houston | 77.04
| Hubbard | 66.63
| Isanti | 115.00
| Itasca | 57.11
| Jackson | 87.54
| Kanabec | 70.57
| Kandiyohi | 81.76
| Kittson | 34.05
| Koochiching | 38.88
| Lac qui Parle | 66.03
| Lake | 95.59
| Lake of the Woods | 34.39
| Le Sueur | 100.77
| Lincoln | 64.91
| Lyon | 79.00
| McLeod | 97.75
| Mahnomen | 40.03
| Marshall | 37.15
| Martin | 88.54
| Meeker | 86.47
| Mille Lacs | 80.00
| Morrison | 66.83
| Mower | 91.48
| Murray | 76.29
| Nicollet | 96.94
| Nobles | 90.36
| Norman | 45.06
| Olmsted | 103.35
| Otter Tail | 57.83
| Pennington | 39.51
| Pine | 62.06
| Pipestone | 78.08
| Polk | 43.19
| Pope | 63.04
| Ramsey | 240.81
| Red Lake | 38.79
| Redwood | 87.05
| Renville | 83.77
| Rice | 121.33
| Rock | 93.52
| Roseau | 31.75
| St. Louis | 56.39
| Scott | 144.28
| Sherburne | 110.66
| Sibley | 95.47
| Stearns | 81.38
| Steele | 96.91
| Stevens | 71.58
| Swift | 71.78
| Todd | 62.92
| Traverse | 62.81
| Wabasha | 84.14
| Wadena | 55.21
| Waseca | 99.93
| Washington | 164.66
| Watonwan | 86.01
| Wilkin | 56.36
| Winona | 85.75
| Wright | 115.49
| Yellow Medicine | 72.81
Mississippi | Adams | 47.31
| Alcorn | 47.09
| Amite | 66.95
| Attala | 44.26
| Benton | 40.45
| Bolivar | 56.35
| Calhoun | 39.32
| Carroll | 42.43
| Chickasaw | 41.21
| Choctaw | 49.94
| Claiborne | 45.28
| Clarke | 52.57
| Clay | 41.35
| Coahoma | 50.93
| Copiah | 54.46
| Covington | 70.00
| DeSoto | 66.27
| Forrest | 85.39
| Franklin | 52.62
| George | 82.68
| Greene | 66.80
| Grenada | 45.31
| Hancock | 84.40
| Harrison | 135.56
| Hinds | 52.60
| Holmes | 47.34
| Humphreys | 47.74
| Issaquena | 48.78
| Itawamba | 42.48
| Jackson | 102.00
| Jasper | 57.79
| Jefferson | 50.82
| Jefferson Davis | 57.88
| Jones | 87.96
| Kemper | 39.01
| Lafayette | 56.41
| Lamar | 76.86
| Lauderdale | 48.44
| Lawrence | 62.68
| Leake | 63.39
| Lee | 50.31
| Leflore | 48.33
| Lincoln | 64.69
| Lowndes | 50.42
| Madison | 55.31
| Marion | 69.40
| Marshall | 51.07
| Monroe | 41.89
| Montgomery | 42.99
| Neshoba | 68.58
| Newton | 57.57
| Noxubee | 43.33
| Oktibbeha | 50.51
| Panola | 43.44
| Pearl River | 76.47
| Perry | 69.04
| Pike | 76.66
| Pontotoc | 46.83
| Prentiss | 39.57
| Quitman | 43.73
| Rankin | 70.73
| Scott | 58.58
| Sharkey | 44.12
| Simpson | 68.30
| Smith | 70.22
| Stone | 77.34
| Sunflower | 49.18
| Tallahatchie | 43.19
| Tate | 57.23
| Tippah | 41.10
| Tishomingo | 43.61
| Tunica | 51.10
| Union | 43.02
| Walthall | 69.38
| Warren | 49.97
| Washington | 50.51
| Wayne | 70.45
| Webster | 42.26
| Wilkinson | 51.10
| Winston | 48.16
| Yalobusha | 43.50
| Yazoo | 47.77
Missouri | Adair | 53.31
| Andrew | 69.31
| Atchison | 70.20
| Audrain | 74.70
| Barry | 73.92
| Barton | 53.19
| Bates | 55.97
| Benton | 54.43
| Bollinger | 53.62
| Boone | 80.31
| Buchanan | 77.36
| Butler | 64.88
| Caldwell | 57.23
| Callaway | 72.95
| Camden | 53.19
| Cape Girardeau | 72.72
| Carroll | 60.52
| Carter | 46.67
| Cass | 81.28
| Cedar | 52.19
| Chariton | 56.37
| Christian | 79.73
| Clark | 56.43
| Clay | 81.60
| Clinton | 66.71
| Cole | 69.00
| Cooper | 63.73
| Crawford | 53.22
| Dade | 52.08
| Dallas | 63.64
| Daviess | 55.46
| DeKalb | 56.06
| Dent | 48.18
| Douglas | 52.82
| Dunklin | 70.77
| Franklin | 85.66
| Gasconade | 63.13
| Gentry | 53.51
| Greene | 93.82
| Grundy | 53.28
| Harrison | 52.59
| Henry | 51.62
| Hickory | 44.72
| Holt | 70.20
| Howard | 60.38
| Howell | 49.64
| Iron | 48.90
| Jackson | 93.51
| Jasper | 63.27
| Jefferson | 88.18
| Johnson | 63.76
| Knox | 54.31
| Laclede | 55.20
| Lafayette | 77.44
| Lawrence | 70.63
| Lewis | 61.01
| Lincoln | 89.75
| Linn | 52.28
| Livingston | 57.98
| McDonald | 67.85
| Macon | 51.30
| Madison | 48.96
| Maries | 48.79
| Marion | 63.87
| Mercer | 51.85
| Miller | 57.15
| Mississippi | 67.71
| Moniteau | 68.00
| Monroe | 64.82
| Montgomery | 81.60
| Morgan | 63.44
| New Madrid | 69.43
| Newton | 75.10
| Nodaway | 60.18
| Oregon | 48.84
| Osage | 55.48
| Ozark | 48.81
| Pemiscot | 61.87
| Perry | 62.27
| Pettis | 67.71
| Phelps | 59.12
| Pike | 67.80
| Platte | 81.39
| Polk | 61.98
| Pulaski | 53.31
| Putnam | 49.39
| Ralls | 67.94
| Randolph | 58.20
| Ray | 62.99
| Reynolds | 40.77
| Ripley | 49.50
| St. Charles | 93.65
| St. Clair | 51.16
| Ste. Genevieve | 62.07
| St. Francois | 75.47
| St Louis | 105.53
| Saline | 63.24
| Schuyler | 48.67
| Scotland | 56.26
| Scott | 74.01
| Shannon | 50.27
| Shelby | 59.35
| Stoddard | 67.82
| Stone | 70.57
| Sullivan | 44.83
| Taney | 54.45
| Texas | 49.73
| Vernon | 52.74
| Warren | 95.17
| Washington | 53.37
| Wayne | 48.84
| Webster | 74.81
| Worth | 46.81
| Wright | 51.85
Montana | Beaverhead | 27.20
| Big Horn | 9.21
| Blaine | 13.84
| Broadwater | 24.88
| Carbon | 32.33
| Carter | 8.89
| Cascade | 20.56
| Chouteau | 15.17
| Custer | 11.81
| Daniels | 13.34
| Dawson | 11.54
| Deer Lodge | 33.21
| Fallon | 13.12
| Fergus | 20.90
| Flathead | 87.59
| Gallatin | 51.04
| Garfield | 9.73
| Glacier | 12.84
| Golden Valley | 17.00
| Granite | 31.11
| Hill | 15.01
| Jefferson | 27.61
| Judith Basin | 18.98
| Lake | 35.10
| Lewis and Clark | 22.12
| Liberty | 10.47
| Lincoln | 83.86
| McCone | 10.75
| Madison | 35.64
| Meagher | 26.39
| Mineral | 82.87
| Missoula | 50.14
| Musselshell | 13.72
| Park | 40.99
| Petroleum | 10.99
| Phillips | 11.29
| Pondera | 16.07
| Powder River | 14.61
| Powell | 20.41
| Prairie | 14.00
| Ravalli | 87.47
| Richland | 15.82
| Roosevelt | 16.03
| Rosebud | 8.69
| Sanders | 34.18
| Sheridan | 14.99
| Silver Bow | 48.96
| Stillwater | 23.09
| Sweet Grass | 27.40
| Teton | 19.14
| Toole | 13.41
| Treasure | 11.22
| Valley | 13.30
| Wheatland | 12.60
| Wibaux | 9.53
| Yellowstone | 17.52
Nebraska | Adams | 57.84
| Antelope | 42.88
| Arthur | 8.66
| Banner | 14.23
| Blaine | 11.74
| Boone | 48.04
| Box Butte | 21.36
| Boyd | 20.25
| Brown | 12.96
| Buffalo | 43.56
| Burt | 64.66
| Butler | 63.73
| Cass | 66.55
| Cedar | 51.49
| Chase | 26.00
| Cherry | 10.53
| Cheyenne | 19.21
| Clay | 59.37
| Colfax | 63.60
| Cuming | 64.64
| Custer | 26.45
| Dakota | 45.76
| Dawes | 14.60
| Dawson | 34.66
| Deuel | 18.38
| Dixon | 47.78
| Dodge | 68.81
| Douglas | 94.43
| Dundy | 21.29
| Fillmore | 62.48
| Franklin | 33.52
| Frontier | 20.30
| Furnas | 25.36
| Gage | 46.56
| Garden | 12.08
| Garfield | 14.44
| Gosper | 31.81
| Grant | 7.86
| Greeley | 30.83
| Hall | 53.02
| Hamilton | 67.54
| Harlan | 29.71
| Hayes | 17.58
| Hitchcock | 19.91
| Holt | 23.23
| Hooker | 8.89
| Howard | 40.42
| Jefferson | 46.46
| Johnson | 39.80
| Kearney | 52.03
| Keith | 22.22
| Keya Paha | 14.39
| Kimball | 18.15
| Knox | 37.75
| Lancaster | 65.72
| Lincoln | 21.62
| Logan | 13.25
| Loup | 11.64
| McPherson | 9.46
| Madison | 56.18
| Merrick | 47.47
| Morrill | 16.75
| Nance | 37.75
| Nemaha | 50.71
| Nuckolls | 42.73
| Otoe | 56.57
| Pawnee | 33.96
| Perkins | 25.33
| Phelps | 53.23
| Pierce | 51.70
| Platte | 58.98
| Polk | 63.96
| Red Willow | 27.33
| Richardson | 49.21
| Rock | 13.22
| Saline | 54.39
| Sarpy | 86.98
| Saunders | 69.28
| Scotts Bluff | 28.23
| Seward | 65.65
| Sheridan | 12.50
| Sherman | 28.36
| Sioux | 12.37
| Stanton | 48.04
| Thayer | 47.21
| Thomas | 8.84
| Thurston | 51.05
| Valley | 29.09
| Washington | 79.57
| Wayne | 62.02
| Webster | 32.72
| Wheeler | 18.17
| York | 68.34
Nevada | Carson City | 28.77
| Churchill | 18.47
| Clark | 28.09
| Douglas | 22.43
| Elko | 2.85
| Esmeralda | 12.46
| Eureka | 1.32
| Humboldt | 5.33
| Lander | 3.77
| Lincoln | 13.67
| Lyon | 11.71
| Mineral | 9.08
| Nye | 11.88
| Pershing | 6.58
| Storey | 130.56
| Washoe | 7.33
| White Pine | 7.67
New Hampshire | Belknap | 158.29
| Carroll | 129.66
| Cheshire | 127.42
| Coos | 66.17
| Grafton | 108.28
| Hillsborough | 189.55
| Merrimack | 131.51
| Rockingham | 264.42
| Strafford | 171.08
| Sullivan | 109.80
New Jersey | Atlantic | 373.67
| Bergen | 1,743.78
| Burlington | 301.95
| Camden | 389.95
| Cape May | 404.62
| Cumberland | 235.54
| Essex | 2,319.89
| Gloucester | 389.60
| Hudson * | 386.75
| Hunterdon | 508.42
| Mercer | 474.12
| Middlesex | 511.32
| Monmouth | 597.74
| Morris | 620.12
| Ocean | 456.56
| Passaic | 1,032.40
| Salem | 263.99
| Somerset | 515.99
| Sussex | 343.38
| Union | 3,358.49
| Warren | 311.24
New Mexico | Bernalillo | 24.16
| Catron | 4.63
| Chaves | 5.56
| Cibola | 3.28
| Colfax | 6.05
| Curry | 11.87
| De Baca | 4.16
| Dona Ana | 34.45
| Eddy | 6.82
| Grant | 4.25
| Guadalupe | 3.29
| Harding * | 6.10
| Hidalgo | 3.06
| Lea | 4.05
| Lincoln | 5.05
| Los Alamos * | 6.10
| Luna | 6.34
| McKinley | 2.35
| Mora | 9.41
| Otero | 5.83
| Quay | 6.53
| Rio Arriba | 8.53
| Roosevelt | 8.51
| Sandoval | 6.53
| San Juan | 5.65
| San Miguel | 5.88
| Santa Fe | 12.11
| Sierra | 3.93
| Socorro | 5.00
| Taos | 11.28
| Torrance | 5.99
| Union | 5.57
| Valencia | 11.75
New York | Albany | 88.18
| Allegany | 39.22
| Bronx * | 62.57
| Broome | 50.77
| Cattaraugus | 47.91
| Cayuga | 58.45
| Chautauqua | 54.16
| Chemung | 50.33
| Chenango | 49.59
| Clinton | 48.16
| Columbia | 117.77
| Cortland | 42.82
| Delaware | 62.38
| Dutchess | 154.05
| Erie | 81.52
| Essex | 64.69
| Franklin | 39.96
| Fulton | 59.77
| Genesee | 48.16
| Greene | 80.31
| Hamilton * | 62.57
| Herkimer | 47.94
| Jefferson | 38.12
| Kings * | 62.57
| Lewis | 44.14
| Livingston | 55.39
| Madison | 46.29
| Monroe | 71.07
| Montgomery | 59.41
| Nassau | 2,722.80
| New York | 62.57
| Niagara | 58.69
| Oneida | 53.22
| Onondaga | 65.90
| Ontario | 60.62
| Orange | 141.64
| Orleans | 47.22
| Oswego | 51.79
| Otsego | 52.23
| Putnam | 384.06
| Queens | 62.57
| Rensselaer | 86.72
| Richmond | 3,321.80
| Rockland | 1,554.38
| St. Lawrence | 37.02
| Saratoga | 120.05
| Schenectady | 98.93
| Schoharie | 58.86
| Schuyler | 59.90
| Seneca | 55.37
| Steuben | 43.24
| Suffolk | 498.23
| Sullivan | 96.07
| Tioga | 48.16
| Tompkins | 62.21
| Ulster | 109.60
| Warren | 95.49
| Washington | 58.58
| Wayne | 62.85
| Westchester | 874.95
| Wyoming | 48.90
| Yates | 78.25
North Carolina | Alamance | 127.04
| Alexander | 150.60
| Alleghany | 156.41
| Anson | 98.29
| Ashe | 158.89
| Avery | 208.36
| Beaufort | 70.71
| Bertie | 70.41
| Bladen | 90.83
| Brunswick | 117.92
| Buncombe | 195.60
| Burke | 162.06
| Cabarrus | 154.90
| Caldwell | 139.91
| Camden | 81.15
| Carteret | 84.68
| Caswell | 86.03
| Catawba | 146.05
| Chatham | 154.29
| Cherokee | 185.93
| Chowan | 67.82
| Clay | 196.51
| Cleveland | 110.42
| Columbus | 90.80
| Craven | 84.76
| Cumberland | 82.89
| Currituck | 91.63
| Dare | 62.11
| Davidson | 156.74
| Davie | 144.37
| Duplin | 112.49
| Durham | 140.98
| Edgecombe | 68.75
| Forsyth | 185.48
| Franklin | 102.92
| Gaston | 153.60
| Gates | 69.66
| Graham | 121.11
| Granville | 92.07
| Greene | 94.41
| Guilford | 144.53
| Halifax | 65.56
| Harnett | 146.13
| Haywood | 172.45
| Henderson | 284.14
| Hertford | 56.57
| Hoke | 93.31
| Hyde | 64.84
| Iredell | 158.75
| Jackson | 199.15
| Johnston | 118.88
| Jones | 76.94
| Lee | 127.42
| Lenoir | 93.20
| Lincoln | 127.34
| McDowell | 163.47
| Macon | 240.87
| Madison | 145.42
| Martin | 80.99
| Mecklenburg | 427.13
| Mitchell | 140.21
| Montgomery | 102.32
| Moore | 144.59
| Nash | 93.58
| New Hanover | 220.92
| Northampton | 69.53
| Onslow | 125.71
| Orange | 154.65
| Pamlico | 67.87
| Pasquotank | 71.40
| Pender | 110.97
| Perquimans | 79.45
| Person | 93.80
| Pitt | 93.53
| Polk | 205.44
| Randolph | 133.48
| Richmond | 105.62
| Robeson | 79.39
| Rockingham | 106.86
| Rowan | 143.16
| Rutherford | 120.89
| Sampson | 103.01
| Scotland | 79.78
| Stanly | 110.78
| Stokes | 116.95
| Surry | 129.19
| Swain | 169.01
| Transylvania | 202.40
| Tyrrell | 62.80
| Union | 143.46
| Vance | 91.05
| Wake | 218.94
| Warren | 67.73
| Washington | 61.64
| Watauga | 195.63
| Wayne | 114.64
| Wilkes | 154.04
| Wilson | 88.68
| Yadkin | 143.10
| Yancey | 134.15
North Dakota | Adams | 16.80
| Barnes | 27.13
| Benson | 20.95
| Billings | 13.59
| Bottineau | 21.18
| Bowman | 14.75
| Burke | 18.07
| Burleigh | 20.98
| Cass | 42.34
| Cavalier | 27.42
| Dickey | 30.04
| Divide | 18.04
| Dunn | 14.75
| Eddy | 17.03
| Emmons | 19.60
| Foster | 21.96
| Golden Valley | 13.48
| Grand Forks | 30.51
| Grant | 14.92
| Griggs | 19.68
| Hettinger | 21.56
| Kidder | 16.54
| LaMoure | 30.33
| Logan | 21.10
| McHenry | 18.90
| McIntosh | 20.92
| McKenzie | 14.89
| McLean | 22.51
| Mercer | 17.34
| Morton | 18.33
| Mountrail | 16.97
| Nelson | 20.23
| Oliver | 18.56
| Pembina | 39.02
| Pierce | 18.61
| Ramsey | 20.35
| Ransom | 29.67
| Renville | 25.89
| Richland | 39.83
| Rolette | 19.31
| Sargent | 32.44
| Sheridan | 16.94
| Sioux | 10.68
| Slope | 13.88
| Stark | 20.61
| Steele | 28.11
| Stutsman | 23.69
| Towner | 21.50
| Traill | 39.65
| Walsh | 32.12
| Ward | 24.42
| Wells | 24.10
| Williams | 19.05
Ohio | Adams | 81.91
| Allen | 102.96
| Ashland | 107.62
| Ashtabula | 83.75
| Athens | 74.55
| Auglaize | 109.60
| Belmont | 60.52
| Brown | 84.21
| Butler | 133.38
| Carroll | 91.54
| Champaign | 105.17
| Clark | 110.00
| Clermont | 119.26
| Clinton | 103.59
| Columbiana | 110.29
| Coshocton | 84.99
| Crawford | 92.00
| Cuyahoga | 642.19
| Darke | 120.61
| Defiance | 85.76
| Delaware | 128.72
| Erie | 114.83
| Fairfield | 121.65
| Fayette | 96.55
| Franklin | 136.48
| Fulton | 103.07
| Gallia | 79.01
| Geauga | 173.05
| Greene | 112.73
| Guernsey | 74.98
| Hamilton | 190.51
| Hancock | 93.47
| Hardin | 93.18
| Harrison | 65.35
| Henry | 97.12
| Highland | 89.88
| Hocking | 96.98
| Holmes | 132.95
| Huron | 99.36
| Jackson | 72.86
| Jefferson | 67.54
| Knox | 102.27
| Lake | 220.72
| Lawrence | 72.77
| Licking | 115.98
| Logan | 90.28
| Lorain | 129.38
| Lucas | 125.10
| Madison | 111.41
| Mahoning | 118.48
| Marion | 88.67
| Medina | 158.56
| Meigs | 73.40
| Mercer | 140.36
| Miami | 112.07
| Monroe | 59.63
| Montgomery | 128.20
| Morgan | 62.88
| Morrow | 98.96
| Muskingum | 80.53
| Noble | 65.90
| Ottawa | 83.12
| Paulding | 91.40
| Perry | 82.60
| Pickaway | 99.02
| Pike | 72.37
| Portage | 133.55
| Preble | 104.51
| Putnam | 100.26
| Richland | 103.96
| Ross | 81.83
| Sandusky | 88.78
| Scioto | 75.85
| Seneca | 89.82
| Shelby | 117.94
| Stark | 136.83
| Summit | 228.37
| Trumbull | 94.39
| Tuscarawas | 100.37
| Union | 96.14
| Van Wert | 102.99
| Vinton | 78.15
| Warren | 153.36
| Washington | 73.78
| Wayne | 143.99
| Williams | 88.12
| Wood | 96.58
| Wyandot | 89.88
Oklahoma | Adair | 54.69
| Alfalfa | 26.50
| Atoka | 35.21
| Beaver | 17.99
| Beckham | 28.30
| Blaine | 23.87
| Bryan | 45.58
| Caddo | 31.16
| Canadian | 42.84
| Carter | 40.21
| Cherokee | 53.20
| Choctaw | 38.35
| Cimarron | 14.31
| Cleveland | 68.65
| Coal | 35.56
| Comanche | 32.76
| Cotton | 27.79
| Craig | 37.53
| Creek | 45.41
| Custer | 30.56
| Delaware | 59.29
| Dewey | 24.02
| Ellis | 20.70
| Garfield | 29.07
| Garvin | 37.98
| Grady | 36.90
| Grant | 25.39
| Greer | 20.48
| Harmon | 24.45
| Harper | 19.88
| Haskell | 36.73
| Hughes | 33.64
| Jackson | 24.79
| Jefferson | 30.10
| Johnston | 34.78
| Kay | 29.53
| Kingfisher | 32.07
| Kiowa | 26.30
| Latimer | 35.98
| Le Flore | 47.64
| Lincoln | 46.72
| Logan | 39.50
| Love | 42.78
| McClain | 48.06
| McCurtain | 45.21
| McIntosh | 37.75
| Major | 26.93
| Marshall | 43.27
| Mayes | 56.12
| Murray | 39.81
| Muskogee | 46.55
| Noble | 32.73
| Nowata | 34.36
| Okfuskee | 33.87
| Oklahoma | 73.54
| Okmulgee | 49.78
| Osage | 26.82
| Ottawa | 51.18
| Pawnee | 35.58
| Payne | 47.38
| Pittsburg | 34.84
| Pontotoc | 40.12
| Pottawatomie | 40.67
| Pushmataha | 37.13
| Roger Mills | 22.08
| Rogers | 61.11
| Seminole | 39.55
| Sequoyah | 48.23
| Stephens | 34.24
| Texas | 19.45
| Tillman | 23.65
| Tulsa | 82.96
| Wagoner | 50.78
| Washington | 41.95
| Washita | 28.59
| Woods | 23.05
| Woodward | 23.67
Oregon | Baker | 22.97
| Benton | 105.70
| Clackamas | 271.57
| Clatsop | 120.60
| Columbia | 128.31
| Coos | 74.17
| Crook | 18.89
| Curry | 69.40
| Deschutes | 136.21
| Douglas | 67.26
| Gilliam | 8.76
| Grant | 13.20
| Harney | 10.35
| Hood River | 349.97
| Jackson | 115.59
| Jefferson | 16.02
| Josephine | 175.02
| Klamath | 31.26
| Lake | 18.38
| Lane | 147.03
| Lincoln | 103.82
| Linn | 86.00
| Malheur | 21.74
| Marion | 136.66
| Morrow | 14.62
| Multnomah | 250.34
| Polk | 108.27
| Sherman | 12.42
| Tillamook | 123.37
| Umatilla | 22.89
| Union | 29.77
| Wallowa | 22.75
| Wasco | 14.64
| Washington | 201.49
| Wheeler | 9.18
| Yamhill | 175.18
Pennsylvania | Adams | 181.41
| Allegheny | 164.26
| Armstrong | 88.84
| Beaver | 138.87
| Bedford | 97.93
| Berks | 195.40
| Blair | 117.26
| Bradford | 86.69
| Bucks | 282.54
| Butler | 129.39
| Cambria | 98.72
| Cameron | 56.62
| Carbon | 155.26
| Centre | 144.66
| Chester | 304.95
| Clarion | 82.40
| Clearfield | 71.72
| Clinton | 119.93
| Columbia | 119.54
| Crawford | 81.89
| Cumberland | 180.21
| Dauphin | 173.23
| Delaware | 369.68
| Elk | 97.08
| Erie | 113.72
| Fayette | 103.58
| Forest | 93.98
| Franklin | 172.60
| Fulton | 99.06
| Greene | 88.81
| Huntingdon | 103.89
| Indiana | 103.04
| Jefferson | 77.46
| Juniata | 130.87
| Lackawanna | 140.06
| Lancaster | 264.74
| Lawrence | 107.84
| Lebanon | 236.21
| Lehigh | 166.78
| Luzerne | 134.24
| Lycoming | 98.21
| McKean | 60.02
| Mercer | 90.58
| Mifflin | 131.40
| Monroe | 200.71
| Montgomery | 284.64
| Montour | 145.29
| Northampton | 172.72
| Northumberland | 114.65
| Perry | 125.47
| Philadelphia | 994.65
| Pike | 47.25
| Potter | 73.74
| Schuylkill | 142.31
| Snyder | 141.43
| Somerset | 81.18
| Sullivan | 70.42
| Susquehanna | 93.10
| Tioga | 83.96
| Union | 167.75
| Venango | 77.88
| Warren | 74.70
| Washington | 125.44
| Wayne | 117.46
| Westmoreland | 127.88
| Wyoming | 98.75
| York | 161.27
Puerto Rico | All Areas | 219.71
Rhode Island | Bristol | 664.85
| Kent | 348.47
| Newport | 592.18
| Providence | 455.24
| Washington | 380.12
South Carolina | Abbeville | 75.90
| Aiken | 100.85
| Allendale | 51.24
| Anderson | 110.78
| Bamberg | 60.32
| Barnwell | 73.12
| Beaufort | 62.01
| Berkeley | 96.71
| Calhoun | 68.84
| Charleston | 194.86
| Cherokee | 79.22
| Chester | 88.00
| Chesterfield | 66.48
| Clarendon | 55.63
| Colleton | 55.91
| Darlington | 49.61
| Dillon | 56.72
| Dorchester | 93.82
| Edgefield | 85.69
| Fairfield | 78.80
| Florence | 72.56
| Georgetown | 76.78
| Greenville | 159.23
| Greenwood | 78.80
| Hampton | 62.07
| Horry | 97.30
| Jasper | 57.31
| Kershaw | 85.66
| Lancaster | 103.49
| Laurens | 86.98
| Lee | 59.51
| Lexington | 123.91
| McCormick | 71.35
| Marion | 67.44
| Marlboro | 51.41
| Newberry | 82.20
| Oconee | 152.88
| Orangeburg | 63.45
| Pickens | 161.40
| Richland | 89.57
| Saluda | 78.24
| Spartanburg | 137.58
| Sumter | 56.13
| Union | 72.28
| Williamsburg | 68.51
| York | 112.24
South Dakota | Aurora | 39.27
| Beadle | 37.43
| Bennett | 10.65
| Bon Homme | 42.11
| Brookings | 61.26
| Brown | 45.41
| Brule | 30.14
| Buffalo | 15.76
| Butte | 14.07
| Campbell | 21.04
| Charles Mix | 36.05
| Clark | 41.85
| Clay | 66.77
| Codington | 44.95
| Corson | 10.79
| Custer | 16.51
| Davison | 48.97
| Day | 35.36
| Deuel | 45.15
| Dewey | 10.08
| Douglas | 42.14
| Edmunds | 29.45
| Fall River | 11.60
| Faulk | 27.84
| Grant | 45.64
| Gregory | 20.90
| Haakon | 12.20
| Hamlin | 53.68
| Hand | 26.67
| Hanson | 56.12
| Harding | 10.45
| Hughes | 23.94
| Hutchinson | 52.59
| Hyde | 18.31
| Jackson | 10.28
| Jerauld | 26.29
| Jones | 11.22
| Kingsbury | 43.54
| Lake | 69.24
| Lawrence | 41.48
| Lincoln | 88.12
| Lyman | 17.97
| McCook | 60.14
| McPherson | 21.53
| Marshall | 33.44
| Meade | 14.44
| Mellette | 10.39
| Miner | 43.29
| Minnehaha | 79.20
| Moody | 71.96
| Pennington | 19.69
| Perkins | 11.77
| Potter | 26.72
| Roberts | 42.20
| Sanborn | 35.31
| Shannon | 6.11
| Spink | 39.41
| Stanley | 11.37
| Sully | 25.92
| Todd | 8.38
| Tripp | 20.90
| Turner | 64.41
| Union | 74.12
| Walworth | 20.81
| Yankton | 56.63
| Ziebach | 8.58
Tennessee | Anderson | 152.97
| Bedford | 105.90
| Benton | 64.00
| Bledsoe | 91.21
| Blount | 159.22
| Bradley | 137.57
| Campbell | 99.45
| Cannon | 92.58
| Carroll | 72.76
| Carter | 115.72
| Cheatham | 117.38
| Chester | 69.90
| Claiborne | 89.00
| Clay | 70.73
| Cocke | 108.07
| Coffee | 100.34
| Crockett | 66.95
| Cumberland | 100.46
| Davidson | 178.09
| Decatur | 60.25
| DeKalb | 91.03
| Dickson | 97.10
| Dyer | 78.78
| Fayette | 92.52
| Fentress | 100.03
| Franklin | 106.87
| Gibson | 73.31
| Giles | 90.60
| Grainger | 108.42
| Greene | 122.28
| Grundy | 92.84
| Hamblen | 109.19
| Hamilton | 155.75
| Hancock | 84.62
| Hardeman | 71.02
| Hardin | 72.99
| Hawkins | 104.18
| Haywood | 69.30
| Henderson | 66.98
| Henry | 77.69
| Hickman | 78.41
| Houston | 69.13
| Humphreys | 73.74
| Jackson | 77.98
| Jefferson | 133.99
| Johnson | 125.11
| Knox | 185.33
| Lake | 79.09
| Lauderdale | 62.51
| Lawrence | 88.80
| Lewis | 81.99
| Lincoln | 98.45
| Loudon | 141.55
| McMinn | 115.23
| McNairy | 63.26
| Macon | 93.61
| Madison | 80.21
| Marion | 103.92
| Marshall | 93.50
| Maury | 108.36
| Meigs | 102.52
| Monroe | 117.09
| Montgomery | 92.72
| Moore | 93.98
| Morgan | 82.73
| Obion | 72.99
| Overton | 92.98
| Perry | 60.59
| Pickett | 99.54
| Polk | 133.59
| Putnam | 119.15
| Rhea | 102.92
| Roane | 121.70
| Robertson | 110.05
| Rutherford | 130.95
| Scott | 89.83
| Sequatchie | 96.93
| Sevier | 158.30
| Shelby | 133.42
| Smith | 90.29
| Stewart | 77.60
| Sullivan | 145.87
| Sumner | 115.83
| Tipton | 67.32
| Trousdale | 92.64
| Unicoi | 207.04
| Union | 104.92
| Van Buren | 81.53
| Warren | 101.14
| Washington | 157.90
| Wayne | 63.06
| Weakley | 72.48
| White | 94.10
| Williamson | 153.69
| Wilson | 117.24
Texas | Anderson | 61.70
| Andrews | 9.40
| Angelina | 77.35
| Aransas | 38.15
| Archer | 26.90
| Armstrong | 23.88
| Atascosa | 45.42
| Austin | 94.32
| Bailey | 25.10
| Bandera | 63.36
| Bastrop | 75.83
| Baylor | 16.23
| Bee | 39.39
| Bell | 65.21
| Bexar | 75.72
| Blanco | 69.25
| Borden | 16.01
| Bosque | 59.66
| Bowie | 51.20
| Brazoria | 60.48
| Brazos | 76.27
| Brewster | 9.48
| Briscoe | 17.11
| Brooks | 28.72
| Brown | 49.90
| Burleson | 62.39
| Burnet | 62.56
| Caldwell | 64.05
| Calhoun | 44.04
| Callahan | 35.16
| Cameron | 53.44
| Camp | 75.27
| Carson | 22.56
| Cass | 59.57
| Castro | 28.58
| Chambers | 40.11
| Cherokee | 64.33
| Childress | 19.71
| Clay | 36.55
| Cochran | 24.13
| Coke | 21.65
| Coleman | 35.58
| Collin | 95.70
| Collingsworth | 23.83
| Colorado | 65.29
| Comal | 83.10
| Comanche | 54.43
| Concho | 28.22
| Cooke | 68.81
| Coryell | 55.40
| Cottle | 17.80
| Crane | 10.56
| Crockett | 11.25
| Crosby | 19.07
| Culberson | 8.35
| Dallam | 23.36
| Dallas | 91.36
| Dawson | 23.52
| Deaf Smith | 25.24
| Delta | 44.62
| Denton | 98.80
| DeWitt | 51.31
| Dickens | 22.81
| Dimmit | 27.84
| Donley | 17.75
| Duval | 28.17
| Eastland | 47.82
| Ector | 11.00
| Edwards | 22.14
| Ellis | 67.59
| El Paso | 40.47
| Erath | 66.43
| Falls | 43.90
| Fannin | 53.60
| Fayette | 76.21
| Fisher | 25.05
| Floyd | 27.89
| Foard | 19.35
| Fort Bend | 63.91
| Franklin | 62.36
| Freestone | 48.21
| Frio | 37.32
| Gaines | 26.29
| Galveston | 67.67
| Garza | 16.97
| Gillespie | 71.93
| Glasscock | 20.37
| Goliad | 45.00
| Gonzales | 58.63
| Gray | 20.15
| Grayson | 83.87
| Gregg | 94.71
| Grimes | 67.48
| Guadalupe | 71.93
| Hale | 32.04
| Hall | 23.05
| Hamilton | 47.30
| Hansford | 22.28
| Hardeman | 22.42
| Hardin | 62.83
| Harris | 93.21
| Harrison | 61.01
| Hartley | 18.69
| Haskell | 24.55
| Hays | 78.09
| Hemphill | 20.12
| Henderson | 67.62
| Hidalgo | 60.29
| Hill | 50.89
| Hockley | 29.55
| Hood | 75.47
| Hopkins | 63.19
| Houston | 56.70
| Howard | 21.23
| Hudspeth | 7.82
| Hunt | 68.17
| Hutchinson | 18.47
| Irion | 17.22
| Jack | 41.13
| Jackson | 37.71
| Jasper | 77.43
| Jeff Davis | 7.71
| Jefferson | 38.45
| Jim Hogg | 17.86
| Jim Wells | 40.39
| Johnson | 94.21
| Jones | 30.33
| Karnes | 47.71
| Kaufman | 72.26
| Kendall | 75.14
| Kenedy | 16.03
| Kent | 16.64
| Kerr | 49.32
| Kimble | 41.24
| King | 10.48
| Kinney | 25.02
| Kleberg | 32.70
| Knox | 23.61
| Lamar | 45.50
| Lamb | 28.67
| Lampasas | 51.36
| La Salle | 30.82
| Lavaca | 58.83
| Lee | 71.74
| Leon | 55.81
| Liberty | 55.26
| Limestone | 43.29
| Lipscomb | 20.10
| Live Oak | 41.22
| Llano | 52.11
| Loving | 3.62
| Lubbock | 33.14
| Lynn | 24.46
| McCulloch | 36.74
| McLennan | 57.00
| McMullen | 29.05
| Madison | 58.02
| Marion | 56.03
| Martin | 17.83
| Mason | 50.64
| Matagorda | 38.15
| Maverick | 24.96
| Medina | 54.51
| Menard | 30.10
| Midland | 24.02
| Milam | 52.91
| Mills | 46.58
| Mitchell | 22.72
| Montague | 56.95
| Montgomery | 104.74
| Moore | 23.72
| Morris | 62.64
| Motley | 16.45
| Nacogdoches | 66.93
| Navarro | 44.56
| Newton | 51.92
| Nolan | 28.39
| Nueces | 35.66
| Ochiltree | 22.45
| Oldham | 9.01
| Orange | 70.05
| Palo Pinto | 53.57
| Panola | 54.90
| Parker | 100.84
| Parmer | 28.17
| Pecos | 7.49
| Polk | 63.50
| Potter | 18.30
| Presidio | 11.50
| Rains | 66.95
| Randall | 31.68
| Reagan | 13.88
| Real | 29.86
| Red River | 36.74
| Reeves | 8.71
| Refugio | 20.24
| Roberts | 18.60
| Robertson | 55.70
| Rockwall | 124.76
| Runnels | 31.15
| Rusk | 56.59
| Sabine | 70.80
| San Augustine | 54.90
| San Jacinto | 72.62
| San Patricio | 34.25
| San Saba | 44.92
| Schleicher | 24.99
| Scurry | 24.80
| Shackelford | 23.19
| Shelby | 77.68
| Sherman | 22.50
| Smith | 86.69
| Somervell | 87.66
| Starr | 34.20
| Stephens | 34.08
| Sterling | 10.15
| Stonewall | 18.49
| Sutton | 22.00
| Swisher | 20.07
| Tarrant | 100.26
| Taylor | 34.17
| Terrell | 6.22
| Terry | 24.46
| Throckmorton | 24.11
| Titus | 56.75
| Tom Green | 29.83
| Travis | 78.29
| Trinity | 53.16
| Tyler | 77.51
| Upshur | 71.43
| Upton | 14.18
| Uvalde | 30.05
| Val Verde | 12.63
| Van Zandt | 84.12
| Victoria | 42.88
| Walker | 67.75
| Waller | 91.31
| Ward | 10.23
| Washington | 102.50
| Webb | 20.65
| Wharton | 48.79
| Wheeler | 18.80
| Wichita | 26.84
| Wilbarger | 20.40
| Willacy | 33.01
| Williamson | 77.84
| Wilson | 65.27
| Winkler | 7.24
| Wise | 87.13
| Wood | 80.11
| Yoakum | 23.39
| Young | 34.78
| Zapata | 25.40
| Zavala | 29.08
Utah | Beaver | 28.92
| Box Elder | 11.40
| Cache | 39.04
| Carbon | 13.30
| Daggett | 19.62
| Davis | 66.80
| Duchesne | 8.22
| Emery | 16.03
| Garfield | 32.70
| Grand | 5.21
| Iron | 19.97
| Juab | 14.61
| Kane | 18.56
| Millard | 14.68
| Morgan | 17.03
| Piute | 34.99
| Rich | 10.06
| Salt Lake | 40.38
| San Juan | 4.49
| Sanpete | 27.30
| Sevier | 24.65
| Summit | 17.89
| Tooele | 20.38
| Uintah | 6.63
| Utah | 53.15
| Wasatch | 59.62
| Washington | 38.74
| Wayne | 33.95
| Weber | 61.54
Vermont | Addison | 74.57
| Bennington | 104.73
| Caledonia | 74.94
| Chittenden | 107.88
| Essex | 44.27
| Franklin | 70.71
| Grand Isle | 102.34
| Lamoille | 88.65
| Orange | 84.08
| Orleans | 65.65
| Rutland | 70.96
| Washington | 98.20
| Windham | 105.32
| Windsor | 113.98
Virginia | Accomack | 86.55
| Albemarle | 166.49
| Alleghany | 81.29
| Amelia | 102.48
| Amherst | 87.61
| Appomattox | 79.86
| Arlington | 120.50
| Augusta | 140.06
| Bath | 106.46
| Bedford | 135.20
| Bland | 84.18
| Botetourt | 121.41
| Brunswick | 71.36
| Buchanan | 120.50
| Buckingham | 88.09
| Campbell | 95.93
| Caroline | 133.34
| Carroll | 117.47
| Charles City | 103.11
| Charlotte | 76.31
| Chesterfield | 161.17
| Clarke | 195.26
| Craig | 101.57
| Culpeper | 169.72
| Cumberland | 111.63
| Dickenson | 91.30
| Dinwiddie | 91.04
| Essex | 92.76
| Fairfax | 367.28
| Fauquier | 165.32
| Floyd | 118.87
| Fluvanna | 142.29
| Franklin | 119.18
| Frederick | 167.21
| Giles | 89.50
| Gloucester | 160.83
| Goochland | 151.36
| Grayson | 131.97
| Greene | 187.46
| Greensville | 79.23
| Halifax | 79.23
| Hanover | 162.09
| Henrico | 155.14
| Henry | 89.38
| Highland | 86.81
| Isle of Wight | 90.47
| James City | 240.17
| King and Queen | 103.40
| King George | 120.04
| King William | 110.00
| Lancaster | 121.33
| Lee | 78.40
| Loudoun | 211.28
| Louisa | 140.18
| Lunenburg | 84.15
| Madison | 165.26
| Mathews | 163.17
| Mecklenburg | 90.50
| Middlesex | 143.95
| Montgomery | 118.07
| Nelson | 134.00
| New Kent | 152.68
| Northampton | 112.63
| Northumberland | 108.57
| Nottoway | 99.99
| Orange | 158.63
| Page | 176.07
| Patrick | 99.31
| Pittsylvania | 90.30
| Powhatan | 183.85
| Prince Edward | 88.04
| Prince George | 107.60
| Prince William | 209.82
| Pulaski | 104.31
| Rappahannock | 177.70
| Richmond | 105.28
| Roanoke | 144.73
| Rockbridge | 124.50
| Rockingham | 175.90
| Russell | 80.97
| Scott | 84.35
| Shenandoah | 154.31
| Smyth | 94.61
| Southampton | 74.11
| Spotsylvania | 145.21
| Stafford | 252.47
| Surry | 94.47
| Sussex | 90.41
| Tazewell | 65.36
| Warren | 181.68
| Washington | 125.68
| Westmoreland | 102.97
| Wise | 79.80
| Wythe | 112.35
| York | 505.80
| Chesapeake City | 153.94
| Suffolk | 130.25
| Virginia Beach City | 178.10
Washington | Adams | 19.00
| Asotin | 15.42
| Benton | 43.10
| Chelan | 135.08
| Clallam | 194.62
| Clark | 245.48
| Columbia | 18.52
| Cowlitz | 141.24
| Douglas | 20.47
| Ferry | 8.18
| Franklin | 40.10
| Garfield | 15.01
| Grant | 46.29
| Grays Harbor | 49.67
| Island | 228.13
| Jefferson | 135.37
| King | 330.05
| Kitsap | 346.38
| Kittitas | 72.51
| Klickitat | 23.12
| Lewis | 109.71
| Lincoln | 18.48
| Mason | 152.57
| Okanogan | 22.51
| Pacific | 61.53
| Pend Oreille | 56.07
| Pierce | 273.64
| San Juan | 161.26
| Skagit | 125.17
| Skamania | 163.50
| Snohomish | 200.63
| Spokane | 43.62
| Stevens | 25.87
| Thurston | 158.72
| Wahkiakum | 73.96
| Walla Walla | 31.99
| Whatcom | 207.55
| Whitman | 20.71
| Yakima | 28.39
West Virginia | Barbour | 47.34
| Berkeley | 192.99
| Boone | 44.49
| Braxton | 46.45
| Brooke | 47.25
| Cabell | 72.72
| Calhoun | 44.60
| Clay | 47.80
| Doddridge | 42.38
| Fayette | 59.04
| Gilmer | 42.10
| Grant | 67.05
| Greenbrier | 69.53
| Hampshire | 137.67
| Hancock | 78.78
| Hardy | 87.85
| Harrison | 59.99
| Jackson | 56.94
| Jefferson | 195.67
| Kanawha | 78.63
| Lewis | 48.84
| Lincoln | 42.73
| Logan | 81.80
| McDowell | 64.02
| Marion | 61.11
| Marshall | 53.82
| Mason | 64.17
| Mercer | 63.48
| Mineral | 79.87
| Mingo | 28.41
| Monongalia | 79.47
| Monroe | 66.10
| Morgan | 124.91
| Nicholas | 58.29
| Ohio | 61.06
| Pendleton | 61.29
| Pleasants | 60.10
| Pocahontas | 58.46
| Preston | 68.89
| Putnam | 68.69
| Raleigh | 66.21
| Randolph | 57.63
| Ritchie | 48.20
| Roane | 49.93
| Summers | 57.77
| Taylor | 63.27
| Tucker | 55.61
| Tyler | 54.17
| Upshur | 61.29
| Wayne | 52.21
| Webster | 56.82
| Wetzel | 44.40
| Wirt | 46.71
| Wood | 65.81
| Wyoming | 39.22
Wisconsin | Adams | 89.36
| Ashland | 60.45
| Barron | 69.87
| Bayfield | 61.21
| Brown | 110.63
| Buffalo | 72.44
| Burnett | 72.21
| Calumet | 107.78
| Chippewa | 70.21
| Clark | 70.55
| Columbia | 105.66
| Crawford | 73.22
| Dane | 122.14
| Dodge | 103.43
| Door | 95.06
| Douglas | 57.91
| Dunn | 78.98
| Eau Claire | 78.92
| Florence | 66.65
| Fond du Lac | 99.63
| Forest | 54.30
| Grant | 88.82
| Green | 100.73
| Green Lake | 98.10
| Iowa | 92.86
| Iron | 53.59
| Jackson | 72.97
| Jefferson | 114.01
| Juneau | 80.70
| Kenosha | 143.54
| Kewaunee | 98.55
| La Crosse | 81.72
| Lafayette | 99.26
| Langlade | 72.07
| Lincoln | 72.07
| Manitowoc | 98.53
| Marathon | 77.12
| Marinette | 75.90
| Marquette | 86.54
| Menominee | 33.11
| Milwaukee | 203.43
| Monroe | 83.72
| Oconto | 84.00
| Oneida | 80.30
| Outagamie | 104.31
| Ozaukee | 134.97
| Pepin | 77.09
| Pierce | 94.24
| Polk | 81.38
| Portage | 97.03
| Price | 54.95
| Racine | 134.88
| Richland | 79.46
| Rock | 113.62
| Rusk | 65.47
| St. Croix | 107.52
| Sauk | 95.71
| Sawyer | 83.94
| Shawano | 86.88
| Sheboygan | 109.13
| Taylor | 65.55
| Trempealeau | 73.73
| Vernon | 83.69
| Vilas | 140.27
| Walworth | 122.22
| Washburn | 77.00
| Washington | 143.63
| Waukesha | 154.69
| Waupaca | 91.11
| Waushara | 99.63
| Winnebago | 96.98
| Wood | 84.82
Wyoming | Albany | 7.74
| Big Horn | 14.42
| Campbell | 6.41
| Carbon | 5.16
| Converse | 5.66
| Crook | 9.83
| Fremont | 15.06
| Goshen | 9.81
| Hot Springs | 12.07
| Johnson | 6.35
| Laramie | 7.97
| Lincoln | 18.86
| Natrona | 5.49
| Niobrara | 6.20
| Park | 13.64
| Platte | 10.06
| Sheridan | 12.92
| Sublette | 16.65
| Sweetwater | 2.94
| Teton | 30.00
| Uinta | 9.67
| Washakie | 9.37
| Weston | 7.28

[FR Doc. 2015-00429 Filed 1-16-15; 8:45 am]

BILLING CODE 6717-01-P